MARINE MAMMAL COMMISSION

Sunshine Act Meeting

TIME AND DATES: The Marine Mammal Commission will meet in executive session on July 10, 2000.

PLACE: 901 17th Street, N.W., Washington, D.C. 20006

SUBJECT MATTER AND STATUS: This meeting of the Marine Mammal Commission will consider candidates for the position of Executive Director of the Commission and, as provided for in subsection (c)(2) and (c)(6) of the Government in the Sunshine Act, will be closed to the public.

FOR FURTHER INFORMATION CONTACT: John R. Twiss, Jr., Executive Director, Marine Mammal Commission, 4340 East-West Highway, Room 905, Bethesda, MD 20814, 301/504-0087.

Dated: July 6, 2000.
John R. Twiss, Jr.,
Executive Director.

[FR Doc. 00-17517 Filed 7-6-00; 3:00 pm]

BILLING CODE 6820-31-M